DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new applications for special permits to facilitate processing.

DATES: Comments must be received on or before January 3, 2006.

Address Comments To

Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington DC or at http://dms.dot.gov.

This notice of receipt of applications for modification of special permits is published in accordance with part 107 of the Federal hazardous materials transportation law (49 U.S.C. 5117(b); 49 CFR 1.53(b)).

Issued in Washington, DC, on December 12, 2005.
R. Ryan Posten,
Chief, Special Permits Program, Office of Hazardous Materials Special Permits & Approvals.

Application No. | Docket No. | Applicant | Regulation(s) affected | Modification of special permit | Nature of special permit thereof
MODIFICATION SPECIAL PERMITS
10788-M |  | P.S.I. Plus, Inc., East Hampton, CT | 49 CFR 173.302(a)(1); 175.3; 178.65-2; 178.65-5(a)(4) | 10788 | To modify the special permit to authorize the use of DOT specification 39 cylinders for all Division 1.2 gases.
11281-M |  | E.I. du Pont de Nemours & Company, Wilmington, DE | 49 CFR 172.101, Column 7, Special Provisions B14, T38 | 11281 | To modify the special permit to allow the minimum thickness for Type 316L stainless steel tanks to be changed to 0.250″, and to allow transportation in container-on-flat-cars.
11513-M |  | ATK Thiokol, Inc., Brigham City, UT | 49 CFR 172.101 | 11513 | To modify the special permit to authorize transportation of aerial flares (flare candles), propellant samples, and wet cut propellant in non-DOT specification containers.
12677-M | RSPA-01-9375 | Austin Powder Illinois Company, Cleveland, OH | 49 CFR 177.835(c)(3); 177.823; 177.848(e)(2); 177.848(g); 173.202 | 12677 | To modify the special permit to authorize the use of the motor vehicle compartments and non-DOT specification cargo tanks for transporting various hazardous materials currently authorized under DOT-SP 12677.
12706-M | RSPA-01-9731 | RAGASCO AS, Raufoss, NO | 49 CFR 173.34; 173.201; 173.301; 173.304 | 12706 | To modify the special permit to authorize the addition of certain Division 2.2 hazardous materials.
14004-M | RSPA-04-19657 | Praxair, Inc., Danbury, CT | 49 CFR 179.13 | 14004 | To modify the special permit to allow transportation of certain Division 2.2 gases in DOT specification 105J500W tank cars with a maximum weight on rail greater than 263,000 pounds but not greater than 286,000 pounds.

[FR Doc. 05-24131 Filed 12-15-05; 8:45 am]

BILLING CODE 4909-60-M